DEPARTMENT OF TRANSPORTATION

Federal Aviation Administration

14 CFR Part 39

[Docket No. FAA-2025-5037; Project Identifier AD-2025-00212-A; Amendment 39-23255; AD 2026-03-06]

RIN 2120-AA64

Airworthiness Directives; Textron Aviation, Inc. (Type Certificate Previously Held by Cessna Aircraft Company) Airplanes

AGENCY: Federal Aviation Administration (FAA), DOT.

ACTION: Final rule; correction.

SUMMARY: The FAA is correcting an airworthiness directive (AD) that was published in the Federal Register. That AD applies to all Textron Aviation, Inc., Model 525B airplanes. As published, there was an error in Table 1 to paragraph (g) of the AD. This document corrects that error. In all other respects, the original document remains the same.

DATES: This correction is effective March 13, 2026. The effective date of AD 2026-03-06 remains March 13, 2026.

ADDRESSES:

AD Docket: You may examine the AD docket at regulations.gov under Docket No. FAA-2025-5037, or in person at Docket Operations between 9 a.m. and 5 p.m., Monday through Friday, except Federal holidays. The AD docket contains this final rule, any comments received, and other information. The address for Docket Operations is U.S. Department of Transportation, Docket Operations, M-30, West Building Ground Floor, Room W12-140, 1200 New Jersey Avenue SE, Washington, DC 20590.

FOR FURTHER INFORMATION CONTACT: Soban Saeed, Aviation Safety Engineer, FAA, 1801 South Airport Road, Wichita, KS 67209; phone: (316) 946-4123; email: CCB-COS@faa.gov.

SUPPLEMENTARY INFORMATION:

Background

AD 2026-03-06, Amendment 39-23255 (91 FR 5283, February 6, 2026) (AD 2026-03-06), requires revising the Airworthiness Limitations Section (ALS) of the existing aircraft maintenance manual (AMM) or instructions for continued airworthiness (ICA) and the existing approved maintenance or inspection program, as applicable, for all Textron Aviation, Inc., Model 525B airplanes.

Need for Correction

As published, there is an error in Table 1 to paragraph (g)—Revised Model 525B Airworthiness Limitation Tasks of the AD. Specifically, Task Number 54-50-00-250, Inspection Document incorrectly references 4-12-MI. The correct reference is 4-12-NA.

Correction of Publication

This document corrects an error and correctly adds the AD as an amendment to 14 CFR 39.13. Although no other part of the preamble or regulatory information has been corrected, the FAA is publishing the entire rule in the Federal Register.

The effective date of this AD remains March 13, 2026.

Since this action only corrects one typographical error and does not affect compliance with the AD, it has no adverse economic impact and imposes no additional burden on any person. Therefore, the FAA has determined that notice and public comment procedures are unnecessary.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Corrected]

2. The FAA amends § 39.13 by adding the following airworthiness directive:

2026-03-06 Textron Aviation, Inc.: Amendment 39-23255; Docket No. FAA-2025-5037; Project Identifier AD-2025-00212-A.

(a) Effective Date

This airworthiness directive (AD) is effective March 13, 2026.

(b) Affected ADs

None.

(c) Applicability

This AD applies to all Textron Aviation, Inc. (Type Certificate previously held by Cessna Aircraft Company) Model 525B airplanes, certificated in any category.

(d) Subject

Joint Aircraft System Component (JASC) Code 5530, Vertical Stabilizer Structure; 5415, Nacelle/Pylon, Attach Fittings.

(e) Unsafe Condition

This AD was prompted by the manufacturer's revision of the aircraft maintenance manual (AMM) to introduce more restrictive inspection intervals. The FAA is issuing this AD to prevent undetected cracks in the engine mount and vertical stabilizer front and rear spar caps. The unsafe condition, if not addressed, could result in reduced structural integrity and consequent reduced controllability of the airplane.

(f) Compliance

Comply with this AD within the compliance times specified, unless already done.

(g) Airworthiness Limitations Section (ALS) Revision

Within 150 hours time-in-service (TIS) or 12 months after the effective date of this AD, whichever occurs first: Revise the ALS of the existing AMM or instructions for continued airworthiness (ICA) and the existing approved maintenance or inspection program, as applicable, by incorporating the information identified in table 1 to paragraph (g) of this AD.

Table 1 to Paragraph (g)—Revised Model 525B Airworthiness Limitation Tasks
Task No. | Task title | Existing task interval | Revised task interval | Inspection document | Zone
54-50-00-250 | Forward Engine Mount Channel Flange (Eddy Current) Special Detailed Inspection | 6,000 hours TIS | 6,100 hours TIS, then 4,100 hours TIS thereafter | 4-12-NA | 411, 412
54-50-00-252 | Aft Engine Beam Aft Upper Angle Common to Aft Web, BL 24.50 (Eddy Current) Special Detailed Inspection | 11,500 hours TIS | 14,100 hours TIS, then every 2,700 hours TIS thereafter | 4-12-MR | 311, 312
54-50-00-254 | Forward Engine Mount Aft Channel Web (Eddy Current) Special Detailed Inspection | 12,000 hours TIS | 16,300 hours TIS, then every 11,600 hours TIS thereafter | 4-12-MS | 410, 420
54-50-00-255 | Forward Engine Mount Forward Channel Web (Eddy Current) Special Detailed Inspection | 12,000 hours TIS | 15,600 hours TIS, then every 11,100 hours TIS thereafter | 4-12-NB | 410, 420
55-40-00-250 | Vertical Fin Left and Right Front Spar Cap at Attachment Hole #2 (Eddy Current) Special Detailed Inspection | 9,000 hours TIS, then every 7,500 hours TIS thereafter | 9,000 hours TIS, then every 7,000 hours TIS thereafter | 4-12-ML | 340
55-40-00-251 | Vertical Fin Left and Right Front Spar Cap at Attachment Hole #1 (Eddy Current) Special Detailed Inspection | 15,000 hours TIS | 17,700 hours TIS, then every 14,900 hours TIS thereafter | 4-12-MO | 340
55-40-00-252 | Vertical Fin Left and Right Rear Spar Cap at Attachment Hole #1 (Eddy Current) Special Detailed Inspection | 15,000 hours TIS, then every 14,500 hours TIS thereafter | 23,600 hours TIS, then every 12,100 hours TIS thereafter | 4-12-MQ | 340

Note 1 to paragraph (g): Additional guidance for accomplishing the actions required by this AD can be found in Textron Aviation Service Letter SL525B-05-04, Revision 1, dated January 7, 2025.

(h) Provisions for Alternative Actions and Intervals

After the action required by paragraph (g) of this AD has been done, no alternative actions and associated thresholds and intervals are allowed unless they are approved as specified in the provisions of paragraph (i) of this AD.

(i) Alternative Methods of Compliance (AMOCs)

(1) The Manager, Central Certification Branch, FAA, has the authority to approve AMOCs for this AD, if requested using the procedures found in 14 CFR 39.19. In accordance with 14 CFR 39.19, send your request to your principal inspector or local Flight Standards District Office, as appropriate. If sending information directly to the manager of the Central Certification Branch, send it to the attention of the person identified in paragraph (j)(1) of this AD and email to: AMOC@faa.gov.

(2) Before using any approved AMOC, notify your appropriate principal inspector, or lacking a principal inspector, the manager of the local flight standards district office/certificate holding district office.

(j) Additional Information

(1) For more information about this AD, contact Soban Saeed, Aviation Safety Engineer, FAA, 1801 South Airport Road, Wichita, KS 67209; phone: (316) 946-4123; email: CCB-COS@faa.gov.

(2) For Textron Aviation material identified in this AD that is not incorporated by reference, contact Textron Aviation, Inc., P.O. Box 7706, Wichita, KS 67277; phone: (316) 517-6215; email: citationpubs@txtav.com; website: ww2.txtav.com/technicalpublications/.

(k) Material Incorporated by Reference

None.

Issued on February 27, 2026.
Steven W. Thompson,
Acting Deputy Director, Compliance & Airworthiness Division, Aircraft Certification Service.

[FR Doc. 2026-04331 Filed 3-3-26; 8:45 am]

BILLING CODE 4910-13-P